DEPARTMENT OF HOMELAND SECURITY

Transportation Security Administration

Aviation Security Advisory Committee Meeting

AGENCY: Transportation Security Administration (TSA), DHS.

ACTION: Notice of meeting.

SUMMARY: This notice announces a meeting of the Aviation Security Advisory Committee (ASAC).

DATES: The meeting will take place on November 17, 2003, from 11 a.m. to 12 p.m., local time in Washington, DC.

ADDRESSES: The meeting will be held by telephonic conference call. Dial-in instructions are set forth below under the heading SUPPLEMENTARY INFORMATION.

FOR FURTHER INFORMATION CONTACT: Joseph Corrao, Office of Transportation Security Policy, TSA Headquarters (Room 1146N), 701 S. 12th Street, Arlington, VA, 22202; telephone 571-227-2980, e-mail joseph.corrao@dhs.gov.

SUPPLEMENTARY INFORMATION: This meeting is announced pursuant to section 10(a)(2) of the Federal Advisory Committee Act, as amended (5 U.S.C. App.). The agenda for the meeting will include discussion of the report of the general aviation airport security guidelines working group. This meeting, from 11 a.m. to 12 noon, is open to the public but telephonic conferencing capacity is limited. Members of the public who wish to monitor the discussion may dial into this telephonic meeting by dialing (888) 395-3015. At the prompt, provide the conference code “G A Airport”. (Parties calling from locations outside the United States may contact the person listed under the heading FOR FURTHER INFORMATION CONTACT, for international calling instructions.)

Members of the public must make advance arrangements to present oral statements at this ASAC meeting. Written statements may be presented to the committee by providing copies of them to the Chair prior to the meeting. Comments may be sent to the Chair by telecopier at (571) 227-1374, ATTN: ASAC Chair. Anyone in need of assistance or a reasonable accommodation for the meeting should contact the person listed under the heading FOR FURTHER INFORMATION CONTACT.

Issued in Arlington, Virginia, on October 17, 2003.
Tom Blank,
Assistant Administrator for Transportation Security Policy.

[FR Doc. 03-27061 Filed 10-24-03; 8:45 am]

BILLING CODE 4910-62-P